DEPARTMENT OF TRANSPORTATION

Federal Aviation Administration

14 CFR Part 39

[Docket No. FAA-2007-27926; Directorate Identifier 2006-NM-050-AD]

RIN 2120-AA64

Airworthiness Directives; Airbus Model A300 Airplanes; and Airbus Model A300 B4-600, B4-600R, and F4-600R Series Airplanes, and Model C4-605R Variant F Airplanes (Collectively Called A300-600 Series Airplanes)

AGENCY: Federal Aviation Administration (FAA), Department of Transportation (DOT).

ACTION: Notice of proposed rulemaking (NPRM).

SUMMARY: The FAA proposes to supersede an existing airworthiness directive (AD) that applies to all Airbus Model A300 B2 and B4 series airplanes; and Model A300 B4-600, B4-600R, and F4-600R (collectively called A300-600) series airplanes. The existing AD currently requires repetitive inspections to detect cracking of the upper radius of the forward fitting of frame 47, and repair if necessary. This proposed AD would reduce inspection thresholds and repetitive intervals, and add related investigative and corrective actions. This proposed AD also would provide an optional terminating action for the repetitive inspections only for airplanes with cracking that is within certain limits. This proposed AD results from reports of additional cracking in airplanes that were inspected in accordance with the existing AD. We are proposing this AD to detect and correct fatigue cracking of the left and right upper radius at frame 47, which could propagate and result in reduced structural integrity of the airplane.

DATES: We must receive comments on this proposed AD by May 21, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, Transport Airplane Directorate, FAA, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2007-27926; Directorate Identifier 2006-NM-050-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On March 18, 2003, we issued AD 2003-06-04, amendment 39-13091 (68 FR 14894, March 27, 2003), for all Airbus Model A300 B2 and B4 series airplanes, and Model A300 B4-600, B4-600R, and F4-600R (collectively called A300-600) series airplanes. That AD requires repetitive inspections to detect cracking of the upper radius of the forward fitting of frame 47, and repair if necessary. That AD resulted from issuance of mandatory continuing airworthiness information by a civil airworthiness authority. We issued that AD to detect and correct such fatigue cracking, which could result in propagation of the cracking to the rear fitting and reduced structural integrity of fuselage frame 47.

Actions Since Existing AD Was Issued

Since we issued AD 2003-06-04, cracks were found on the left and right upper radius at frame 47 at 48,000 simulated flights, and at 18,000 total flights on an in-service airplane. In-service experience up to 2001 showed there was no propagation of cracking between 30 millimeters (mm) and 40 mm in size. In mid-2001, a crack of 110 mm in size was found on a scrapped Model A300 B4-200 airplane with 23,700 total flights. Further sampling inspections revealed two Model A300 airplanes with cracks greater in size than the defined limit of 50 mm. Based on these last investigation results, Airbus established a revised inspection program that:

• Redefines the threshold and repetitive interval values; and

• Introduces corrective measures in the event of abnormal load events (e.g., hard landing and flight with turbulence). Definitions of abnormal load events are in the applicable airplane maintenance manual.

Relevant Service Information

Airbus has issued the service bulletins described in the following table.

Airbus Service Bulletins
Service bulletin type | For model A300 airplanes | For model A300-600 series airplanes
Inspection service bulletins | A300-53-0246, Revision 06, including Appendix 01, dated October 19, 2005 | A300-53-6029, Revision 08, including Appendix 01, dated October 19, 2005.
Optional terminating service bulletins | A300-53-0370, including Appendix 01, dated July 16, 2004 | A300-53-6144, including Appendix 01, dated July 16, 2004.

The inspection service bulletins are newer revisions of the service bulletins that were referenced as the appropriate sources of service information for accomplishing the actions required by AD 2003-06-04. The newer revisions take into account the latest investigation results from Airbus, described above, and establish a revised inspection program. The inspection service bulletins specify reporting all inspection results to Airbus.

The inspection service bulletins describe procedures for repetitive eddy current inspections to detect cracking of the upper radius of the forward fitting of frame 47, and applicable related investigative and corrective actions, as described in the following table.

Related Investigative and Corrective Actions Following Eddy Current Inspection
Finding or occurrence | Corrective action | Related investigative action
No crack | Modify the fairing attachment profile by cutting and removing the fairing attachment profile between frame 47 and frame 48, and trimming the keel beam at frame 47. This action is specified only after the first eddy current inspection | Eddy current inspection for cracking of the upper radius (after the keel beam has been trimmed and while the attachment profile is removed).
More than one crack | Contact Airbus for repair instructions | Detailed visual inspection for cracking of the aft fitting around the fasteners.
Crack less than or equal to 8 mm in size | Do the repetitive eddy current inspection at a reduced interval | None.
Crack greater than 8 mm in size, but less than or equal to 20 mm in size | Remove, modify, and reinstall the sealing fitting and sealing shim. This action is specified only after the first eddy current inspection with a crack finding of this size. Do the repetitive eddy current inspection at a reduced interval | Ultrasonic inspection for cracking of the forward fitting.
Crack greater than 20 mm in size, but less than or equal to 50 mm in size | Contact Airbus for repair instructions if any crack is found during the detailed visual inspection; if no further cracking is found, do the repetitive eddy current inspection at a reduced interval | Detailed visual inspection for cracking of the aft fitting around the fasteners.
Crack greater than 50 mm in size | Repair in accordance with the optional terminating service bulletins and contact Airbus for repair instructions | None.
Abnormal load event on an airplane with any crack finding | Report the event to Airbus and do the next repetitive eddy current inspection within 3 months after the event; or, if the first eddy current inspection has not yet been done, contact Airbus before further flight | None.

As noted in the table above, the repetitive intervals for the special detailed inspection vary according to the crack finding. The following table is a summary of the repetitive intervals given in Figure 1, Sheet 1, of the inspection service bulletins.

Repetitive Intervals Based on Crack Finding
Finding | Repetitive interval
No crack | 4,150 flight cycles.
Crack less than or equal to 30 mm | 1,400 flight cycles.
Crack greater than 30 mm but less than or equal to 40 mm | 750 flight cycles.
Crack greater than 40 mm but less than or equal to 50 mm | 250 flight cycles.

The optional terminating service bulletins apply only if a crack is greater than 30 mm but less than or equal to 50 mm in size. The optional terminating service bulletins specify contacting Airbus for repair instructions, special tooling, and the use of trained personnel for accomplishing the repair because of the high risk of serious damage to the frame 47 forward fitting, which could lead to a repair beyond the economical limit.

Accomplishing the actions specified in the service information is intended to adequately address the unsafe condition. The Direction Générale de l'Aviation Civile (DGAC), which is the airworthiness authority for France, mandated the service information and issued French airworthiness directive F-2006-016, dated January 18, 2006, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2003-06-04, and would continue to require repetitive inspections to detect cracking of the upper radius of the forward fitting of frame 47, and repair if necessary. This proposed AD would also continue to require the report to Airbus that was required by the existing AD.

This proposed AD would reduce inspection thresholds and repetitive intervals, and add related investigative and corrective actions. This proposed AD also would provide an optional terminating action for the repetitive inspections only for airplanes with cracking that is within certain limits. This proposed AD would require accomplishing the actions specified in the service information described previously, except as discussed under “Differences Among the Proposed AD, the Service Information, and the French Airworthiness Directive.”

Differences Among the Proposed AD, the Service Information, and the French Airworthiness Directive

The inspection service bulletins referenced by the French airworthiness directive specify contacting Airbus for certain instructions. This proposed AD would require doing those actions according to a method that we or the European Aviation Safety Agency (EASA) (or its delegated agent) approve. In light of the actions that would be required to address the unsafe condition, and consistent with existing bilateral airworthiness agreements, we have determined that, for this proposed AD, a method we or the EASA approve would be acceptable for compliance with this proposed AD.

The French airworthiness directive does not specify repair instructions for crack findings of greater than 50 mm, and the inspection service bulletins specify doing actions in the optional terminating service bulletins and contacting Airbus for repair instructions. This proposed AD would instead require repairing those conditions using a method that we approve.

Where the optional terminating service bulletins specify sending a geometrical plan to Airbus after doing the repair, this proposed AD would require providing a post-repair inspection program to us for approval within 6 months after doing the repair.

These differences have been coordinated with EASA.

Flight With Cracking

Operators should note that this proposed AD permits further flight with cracking within certain limits. While it is not the FAA's policy to allow flight with known cracking, we have determined that, for the purposes of this proposed AD, repair may be deferred for certain crack lengths. In making this determination, we considered that long-term continued operational safety in this case will be adequately ensured by repetitive inspections to detect cracking before it represents a hazard to the airplane, and by repair if the crack exceeds the specified limit.

We also considered that cracks that are less than 30 mm in size are not physically accessible and would require removing frame 47 to repair, which is not economically viable. The proposed inspection program will mitigate any safety concerns for cracks of this size.

Cracks of 30 mm to 50 mm in size are also acceptable for flight, but this proposed AD would require a more rigorous inspection program for cracks of this size. If operators strictly observe the crack size limits and perform repetitive inspections at required intervals, operators can detect any cracks that grow beyond the limits and take corrective action before the crack size creates an unacceptable risk of structural failure.

The DGAC concurs with these findings. In consideration of these findings and the FAA's criteria for flight with known cracking, further flight with cracking within certain limits is permissible for an interim period in this case.

Changes to Existing AD

This proposed AD would retain certain requirements of AD 2003-06-04. Since AD 2003-06-04 was issued, the AD format has been revised, and certain paragraphs have been rearranged. As a result, the corresponding paragraph identifiers have changed in this proposed AD, as listed in the following table:

Revised Paragraph Identifiers
Requirement in AD 2003-06-04 | Corresponding requirement in this proposed AD
Paragraph (a) | paragraph (f).
Paragraph (b) | paragraph (g).
Paragraph (c) | paragraph (h).
Paragraph (d) | paragraph (i).
Paragraph (e) | paragraph (q).

We have also clarified the applicability of the proposed AD in the following ways:

• To match more closely the applicability of the parallel French airworthiness directive.

• To identify model designations as published in the most recent type certificate data sheet for the affected models.

We have revised this proposed AD to clarify the appropriate procedure for notifying the principal inspector before using any approved alternative method of compliance (AMOC) on any airplane to which the AMOC applies.

Costs of Compliance

There are about 163 U.S.-registered airplanes that would be affected by this proposed AD. The following table provides the estimated costs for U.S. operators to comply with this proposed AD. The average labor rate is $80 per work hour.

Estimated Costs
Action | Work hours | Parts | Cost per airplane | Fleet cost
Actions required by AD 2003-06-04 | 9 | $0 | $720, per inspection cycle | $117,360, per inspection cycle.
Inspection (new proposed action) | 1 | 0 | $80, per inspection cycle | $13,040, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13091 (68 FR 14894, March 27, 2003) and adding the following new airworthiness directive (AD):

Airbus: Docket No. FAA-2007-27926; Directorate Identifier 2006-NM-050-AD.

Comments Due Date

(a) The FAA must receive comments on this AD action by May 21, 2007.

Affected ADs

(b) This AD supersedes AD 2003-06-04.

Applicability

(c) This AD applies to all Airbus Model A300 airplanes; and all Model A300 B4-601, B4-603, B4-620, B4-622, B4-605R, B4-622R, F4-605R, F4-622R, and C4-605R Variant F airplanes; certificated in any category.

Unsafe Condition

(d) This AD results from reports of additional cracking in airplanes that were inspected in accordance with AD 2003-06-04. We are issuing this AD to detect and correct fatigue cracking of the left and right upper radius at frame 47, which could propagate and result in reduced structural integrity of the airplane.

Compliance

(e) You are responsible for having the actions required by this AD performed within the compliance times specified, unless the actions have already been done.

Requirements of AD 2003-06-04

Model A300-600: Inspection

(f) For Model A300-600 series airplanes: At the earlier of the times specified by paragraphs (f)(1) and (f)(2) of this AD, perform an eddy current inspection to detect cracking of the upper radius of the left and right forward fitting of frame 47, in accordance with Airbus Service Bulletin A300-53-6029, Revision 02, dated November 7, 1994; Revision 05, dated April 11, 2001; or Revision 08, including Appendix 01, dated October 19, 2005. After the effective date of this AD, only Revision 08 of the service bulletin may be used.

(1) Before the accumulation of 17,300 total flight cycles, or within one year after October 16, 1996 (the effective date of AD 96-18-18, amendment 39-9744), whichever occurs later.

(2) At the later of the times specified by paragraphs (f)(2)(i) and (f)(2)(ii) of this AD.

(i) Before the accumulation of 10,000 total flight cycles or 26,000 total flight hours, whichever occurs first.

(ii) Within 750 flight cycles or 1,900 flight hours, whichever occurs first after May 1, 2003 (the effective date of AD 2003-06-04).

Model A300-600: Follow-On (Repetitive) Inspections

(g) For Model A300-600 series airplanes on which no cracking is found during any inspection required by paragraph (f) of this AD, repeat the inspection required by paragraph (f) of this AD at the applicable times specified in paragraphs (g)(1) and (g)(2) of this AD until the inspection required by paragraph (j) of this AD is done.

(1) If the initial inspection was accomplished before May 1, 2003, repeat the inspection at the later of the times specified in paragraphs (g)(1)(i) and (g)(1)(ii) of this AD. Thereafter, repeat the inspection at intervals not to exceed 6,100 flight cycles or 15,600 flight hours, whichever occurs first.

(i) Re-inspect within 6,100 flight cycles after the initial inspection.

(ii) Re-inspect within 750 flight cycles or 1,900 flight hours, whichever occurs first after May 1, 2003.

(2) If the initial inspection was not accomplished before May 1, 2003, repeat the inspection thereafter at intervals not to exceed 6,100 flight cycles or 15,600 flight hours, whichever occurs first.

Model A300-600: Corrective Action

(h) For Model A300-600 series airplanes on which any cracking is found during any inspection required by paragraph (f) of this AD: Before further flight, contact the Manager, International Branch, ANM-116, FAA, Transport Airplane Directorate; or the Direction Générale de l'Aviation Civile (DGAC) (or its delegated representative), or the European Aviation Safety Agency (EASA) (or its delegated agent); for instructions regarding repair or for an applicable re-inspection interval, in accordance with Airbus Service Bulletin A300-52-6029, Revision 05, dated April 11, 2001; or Revision 08, including Appendix 01, dated October 19, 2005. After the effective date of this AD, only Revision 08 may be used. Repair and/or re-inspection accomplished before May 1, 2003, in accordance with a method approved by the Manager, International Branch, ANM-116, is acceptable for compliance with the requirements of paragraph (h) of this AD.

Model A300 B2 and B4: Repetitive Inspections and Follow-On Actions

(i) For Model A300 B2 and B4 series airplanes: At the applicable time specified in paragraph (i)(1), (i)(2), or (i)(3) of this AD, perform repetitive eddy current inspections to detect cracking of the upper radius of the forward fitting of frame 47, left and right sides, per Airbus Service Bulletin A300-53-0246, Revision 03, dated April 11, 2001; or Revision 06, including Appendix 01, dated October 19, 2005. After the effective date of this AD, only Revision 06 may be used. Accomplishing this requirement terminates the corresponding inspection requirement of the A300 Supplemental Structural Inspection Document (SSID) for Model A300 B2 and B4 series airplanes. (That SSID is mandated by AD 96-13-11, amendment 39-9679.)

(1) For Model A300 B2 series airplanes: Perform the initial inspection at the later of the times specified by paragraphs (i)(1)(i) and (i)(1)(ii) of this AD. Repeat the inspection thereafter at intervals not to exceed 10,400 flight cycles or 13,300 flight hours, whichever occurs first, until the inspection in paragraph (j) of this AD is done.

(i) Before the accumulation of 16,500 total flight cycles or 21,000 total flight hours, whichever occurs first.

(ii) Within 1,000 flight cycles or 1,300 flight hours after May 1, 2003, whichever occurs first.

(2) For Model A300 B4-100 series airplanes: Perform the initial inspection at the later of the times specified by paragraphs (i)(2)(i) and (i)(2)(ii) of this AD. Repeat the inspection thereafter at intervals not to exceed 8,500 flight cycles or 16,400 flight hours, whichever occurs first, until the inspection in paragraph (j) of this AD is done.

(i) Before the accumulation of 10,300 total flight cycles or 19,800 total flight hours, whichever occurs first.

(ii) Within 750 flight cycles or 1,500 flight hours after May 1, 2003, whichever occurs first.

(3) For Model A300 B4-200 series airplanes: Perform the initial inspection at the later of the times specified by paragraphs (i)(3)(i) and (i)(3)(ii) of this AD. Repeat the inspection thereafter at intervals not to exceed 7,000 flight cycles or 13,600 flight hours, whichever occurs first, until the inspection in paragraph (j) of this AD is done.

(i) Before the accumulation of 11,000 total flight cycles or 21,200 total flight hours, whichever occurs first.

(ii) Within 750 flight cycles or 1,500 flight hours after May 1, 2003, whichever occurs first.

New Requirements of This AD

Inspections and Corrective Actions

(j) At the applicable time in paragraph (k) or (l) of this AD: Except as provided by paragraphs (n) and (p) of this AD, do an eddy current inspection to detect cracking of the upper radius of the forward fitting of frame 47, and do all applicable related investigative and corrective actions, by accomplishing all the applicable actions specified in the Accomplishment Instructions of the applicable service bulletin specified in paragraph (j)(1) or (j)(2) of this AD. Do all applicable investigative and corrective actions before further flight. Where the service bulletins specify to contact Airbus for repair instructions: Before further flight, repair using a method approved by either the Manager, International Branch, ANM-116; or the EASA (or its delegated agent). Doing the inspections required by this paragraph terminates the inspections required by paragraphs (f), (g), and (i) of this AD.

(1) For Airbus Model A300 airplanes: Airbus Service Bulletin A300-53-0246, Revision 06, including Appendix 01, dated October 19, 2005.

(2) For Airbus Model A300 B4-601, B4-603, B4-620, B4-622, B4-605R, B4-622R, F4-605R, F4-622R, and C4-605R Variant F airplanes: Airbus Service Bulletin A300-53-6029, Revision 08, including Appendix 01, dated October 19, 2005.

(k) For airplanes on which the inspection required by paragraph (f), (g), or (i) of this AD, as applicable, has not been done prior to the effective date of this AD: Do the initial inspection required by paragraph (j) of this AD before the accumulation of 10,000 total flight cycles, or within 1,400 flight cycles after the effective date of this AD, whichever occurs later. Repeat the inspection thereafter at the applicable interval specified in Figure 1, Sheet 1, of the Accomplishment Instructions of the applicable service bulletin.

(l) For airplanes on which the inspection required by paragraph (f), (g), or (i) of this AD, as applicable, has been done prior to the effective date of this AD: Inspect at the applicable times specified in paragraph (l)(1) or (l)(2) of this AD. Repeat the inspection thereafter at the applicable interval specified in Figure 1, Sheet 1, of the Accomplishment Instructions of the applicable service bulletin.

(1) For airplanes on which no cracking was found during any inspection required by this AD: Do the next inspection at the earlier of the times specified in paragraphs (l)(1)(i) and (l)(1)(ii) of this AD.

(i) At the next repetitive interval specified in the applicable service bulletin specified in paragraph (j)(1) or (j)(2) of this AD, or within 1,400 flight cycles after the effective date of this AD, whichever occurs later.

(ii) At the next repetitive interval specified in paragraph (g) or (i) of this AD, as applicable.

(2) For airplanes on which any crack was found during any inspection required by this AD, and the crack is 30 millimeters (mm) (1.181 inch) or less in length: Do the next inspection at the applicable times specified in paragraph (l)(2)(i) or (l)(2)(ii) of this AD.

(i) For Airbus Model A300 airplanes: At the next repetitive interval specified in the service bulletin specified in paragraph (j)(1) of this AD, or within 500 flight cycles after the effective date of this AD, whichever occurs later.

(ii) Airbus Model A300 B4-601, B4-603, B4-620, B4-622, B4-605R, B4-622R, F4-605R, F4-622R, and C4-605R Variant F airplanes: At the next repetitive interval specified in the service bulletin specified in paragraph (j)(2) of this AD.

Abnormal Load Events

(m) For airplanes on which any abnormal load event occurs after the effective date of this AD, do the actions in paragraph (m)(1), (m)(2), or (m)(3) of this AD, as applicable, at the time specified in the applicable paragraph.

(1) Within 3 months after the event, or at the next applicable repetitive interval required by paragraph (k) or (l) of this AD, whichever occurs first: Do the next repetitive inspection required by paragraph (j) of this AD.

(2) Before further flight following any additional abnormal load event that occurs following the first event but before the next repetitive inspection required by paragraph (k) or (l) of this AD: Contact the Manager, International Branch, ANM-116, or the EASA (or its delegated agent) for further instructions.

(3) Within 3 months after any abnormal load event: Report the event to Airbus in accordance with the requirements of paragraph (q) of this AD.

Optional Terminating Action (Repair) for Certain Cracks

(n) Repairing any crack greater than 30 mm but less than or equal to 50 mm in size in accordance with the Accomplishment Instructions of Airbus Service Bulletin A300-53-0370, including Appendix 01, dated July 16, 2004; or Airbus Service Bulletin A300-53-6144, including Appendix 01, dated July 16, 2004; as applicable; terminates the repetitive inspection requirements of paragraph (k) or (l) of this AD for that area only. Where the service bulletins specify to contact Airbus for repair instructions: Repair the crack using a method approved by either the Manager, International Branch, ANM-116; or the EASA (or its delegated agent).

Repetitive Inspections Following Optional Terminating Action

(o) Within 6 months after repair in accordance with paragraph (n) of this AD: Submit a post-repair inspection program for monitoring the repair to the Manager, International Branch, ANM-116, for approval.

Repair of Any Crack Greater than 50 mm in Size

(p) If any crack that is greater than 50 mm in size is found during any inspection required by paragraph (j), (k), or (l) of this AD: Before further flight, repair according to a method approved by the Manager, International Branch, ANM-116.

Reporting Requirement

(q) At the applicable time specified in paragraph (q)(1) or (q)(2) of this AD: Submit a report of all results of each inspection required by this AD to Airbus, 1 Rond Point Maurice Bellonte, 31707 Blagnac Cedex, France, Attention: Jacques Leborgne, fax 33-5-61-93-36-14. The report must include the inspection results, a description of any discrepancies found, the airplane serial number, and the number of landings and flight hours on the airplane. Information collection requirements contained in this AD have been approved by the Office of Management and Budget (OMB) under the provisions of the Paperwork Reduction Act (44 U.S.C. 3501 et seq.) and have been assigned OMB Control Number 2120-0056.

(1) For airplanes on which the inspection is accomplished after the effective date of this AD: Submit the report within 30 days after performing the inspection.

(2) For airplanes on which the inspection has been accomplished before the effective date of this AD: Submit the report within 30 days after the effective date of this AD.

Actions Accomplished in Accordance With Previous Issues of Service Bulletins

(r) Actions done before the effective date of this AD in accordance with the service bulletins listed in Table 1 of this AD are acceptable for compliance with the corresponding requirements of paragraphs (i) and (j) of this AD.

Table 1.—Previous Issues of Service Bulletins
Model | Airbus Service Bulletin | Revision level | Date
A300 airplanes | A300-53-0246 | 03 | April 11, 2001.
| A300-53-0246 | 04 | November 12, 2002.
| A300-53-0246 | 05 | January 19, 2004.
A300 B4-601, B4-603, B4-620, B4-622, B4-605R, B4-622R, F4-605R, F4-622R, and C4-605R Variant F airplanes | A300-53-6029 | 05 | April 11, 2001.
| A300-53-6029 | 06 | November 12, 2002.
| A300-53-6029 | 07 | January 19, 2004.

Alternative Methods of Compliance (AMOCs)

(s)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2003-06-04 are approved as AMOCs with this AD until paragraph (j) of this AD is accomplished.

Related Information

(t) French airworthiness directive F-2006-016, dated January 18, 2006, also addresses the subject of this AD.

Issued in Renton, Washington, on April 12, 2007.
Ali Bahrami,
Manager, Transport Airplane Directorate, Aircraft Certification Service.

[FR Doc. E7-7516 Filed 4-19-07; 8:45 am]

BILLING CODE 4910-13-P